DEPARTMENT OF TRANSPORTATION

Federal Aviation Administration

14 CFR Part 39

[Docket No. FAA-2009-0118; Directorate Identifier 2008-CE-073-AD; Amendment 39-15810; AD 2009-04-04]

RIN 2120-AA64

Airworthiness Directives; Cessna Aircraft Company Models 401, 401A, 401B, 402, 402A, and 402B Airplanes

AGENCY: Federal Aviation Administration (FAA), DOT.

ACTION: Final rule; request for comments.

SUMMARY: The FAA is adopting a new airworthiness directive (AD) for certain Cessna Aircraft Company (Cessna) Models 401, 401A, 401B, 402, 402A, and 402B airplanes. This AD requires an inspection of the auxiliary wing spar near the location where the main landing gear trunnion is mounted for cracks; immediate replacement if cracks of 0.5 inch or more are found; repetitive inspections with replacement at a later time as long as cracks of less than 0.5 inch are found; and a report to the FAA and Cessna if any cracks are found. This AD results from several reports of fatigue cracking on the affected airplanes in the auxiliary wing spar. We are issuing this AD to detect and correct such cracks, which, if not corrected, could result in failure of the wing auxiliary spar web and cause landing gear collapse during normal landing. This could lead to loss of control and passenger injury.

DATES: This AD becomes effective on March 2, 2009.

On March 2, 2009, the Director of the Federal Register approved the incorporation by reference of certain publications listed in this AD.

We must receive any comments on this AD by April 20, 2009.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Cessna Aircraft Company, P.O. Box 7704, Wichita, Kansas 67277; telephone: (800) 423-7762 or (316) 517-6056; Internet: http://www.cessna.com.

To view the comments to this AD, go to http://www.regulations.gov. The docket number is FAA-2009-0118; Directorate Identifier 2008-CE-073-AD.

FOR FURTHER INFORMATION CONTACT: Adam Neubauer, Aerospace Engineer, 1801 Airport Road, Room 100, Wichita, Kansas 67209; telephone: (316) 946-4156; fax: (316) 946-4107.

SUPPLEMENTARY INFORMATION:

Discussion

We have received several reports of fatigue cracking on Cessna Models 402A and 402B airplanes in the area of the auxiliary wing spar where the main landing gear trunnion is mounted. Other models with similar design that share the same risk of auxiliary wing spar cracking include Cessna Models 401, 401A, 401B, and 402.

This condition, if not corrected, could result in failure of the wing auxiliary spar web and cause landing gear collapse during normal landing. This could lead to loss of control and passenger injury.

Cessna has shown the FAA that parts with cracks in this area that are 0.5 inch or more need immediate replacement as they pose an immediate safety of flight issue. Cessna's analysis also shows that residual strength in the wing, up to ultimate design loads, will remain with cracks less than 0.5 inch, and the growth of these cracks is slow.

Because analysis shows that a repetitive inspection program can provide an interim acceptable level of safety, the FAA will allow repetitive inspections when a crack less than 0.5 inch is found in the wing auxiliary spar during the initial inspection required by this action. Cracks need to be monitored (inspected every 50 hours time-in-service (TIS)) to show they do not reach 0.5 inch.

• If any crack reaches 0.5 inch or more, then the cracked part must be replaced before further flight.

• If no crack reaches 0.5 inch or more, then the cracked part must be replaced within 200 hours TIS or 12 months, whichever occurs first, regardless of crack growth.

Relevant Service Information

We reviewed Cessna Service Bulletin MEB08-8, dated December 23, 2008. The service information describes procedures for inspecting the wing auxiliary spar webs for cracks and replacing the left web/right web with a new left web/right web.

FAA's Determination and Requirements of This AD

We are issuing this AD because we evaluated all the information and determined the unsafe condition described previously is likely to exist or develop on other products of the same type design. This AD requires:

• An inspection of the auxiliary wing spar near the location where the main landing gear trunnion is mounted for cracks;

• Immediate replacement if cracks are 0.5 inch or more;

• Repetitive inspections (50 hours TIS) with replacement at 200 hours TIS or 12 months, whichever occurs first, if cracks are found that are less than 0.5 inch; and

• A report to the FAA and Cessna if any cracks are found.

The FAA considers this interim action. We will work with Cessna and evaluate the crack reports and all other information. Based on this information, we may initiate additional rulemaking action.

FAA's Determination of the Effective Date

An unsafe condition exists that requires the immediate adoption of this AD. The FAA has found that the risk to the flying public justifies waiving notice and comment prior to adoption of this rule because cracks in the wing auxiliary spar web could lead to failure in this area and could cause landing gear collapse during normal landing. This could lead to loss of control and passenger injury. Some of the affected airplanes are operated 100 hours TIS or more monthly. Therefore, the repetitive inspections on these airplanes would occur in short intervals, and the replacement would be required within 2 months. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2009-0118; Directorate Identifier 2008-CE-073-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2009-04-04 Cessna Aircraft Company: Amendment 39-15810; Docket No. FAA-2009-0118; Directorate Identifier 2008-CE-073-AD.

Effective Date

(a) This AD becomes effective on March 2, 2009.

Affected ADs

(b) None.

Applicability

(c) This AD applies to the following airplane models and serial numbers that are certificated in any category:

Models | Serial Nos.
401 | 655 and 401-0001 through 401-0322.
401A | 655 and 401A0001 through 401A0132.
401B | 401B0001 through 401B0221.
402 | 402-0001 through 402-0322.
402A | 402A0001 through 402A0129.
402B | 402B0001 through 402B0122, 402B0201 through 402B0249, 402B0301 through 402B0455, 402B0501 through 402B0640, 402B0801 through 402B0935, 402B1001 through 402B1100, 402B1201 through 402B1250, and 402B1301 through 402B1384.

Unsafe Condition

(d) This AD is the result of several reports of fatigue cracking on the affected airplanes in the auxiliary wing spar. We are issuing this AD to detect and correct such cracks, which, if not corrected, could result in failure of the wing auxiliary spar web and cause landing gear collapse during normal landing. This could lead to loss of control and passenger injury.

Compliance

(e) To address this problem, you must do the actions below using Cessna Service Bulletin MEB08-8, dated December 23, 2008, at the following compliance time, unless already done:

Note 1: Cessna Service Bulletin MEB08-8, dated December 23, 2008, provides detailed instructions on measuring, inspecting, and replacing cracked parts, including how to handle two or more cracks in the same hole.

(1) Within the next 10 hours time-in-service (TIS) after March 2, 2009 (the effective date of this AD) and, in addition, before further flight anytime the airplane experiences a “hard landing,” visually inspect the auxiliary wing spar near the location where the main landing gear trunnion is mounted for cracks.

(2) If any crack is found during any inspection required by this AD that is 0.5 inch or more, before further flight after any such crack is found, replace the cracked parts.

(3) If cracks are found during any inspection required by this AD that are less than 0.5 inch, do the following:

(i) Repetitively thereafter inspect the cracks for length at intervals not to exceed 50 hours TIS and, before further flight, replace any part that has a crack length of 0.5 inch or more; and

(ii) Replace the cracked part within 200 hours TIS after the original crack was found or within 12 months after the original crack was found, whichever occurs first.

(4) If you find any cracks as a result of any inspection required by this AD, report the results to Cessna using the form in the service bulletin. Send a copy of this report to the FAA at the address specified in paragraph (f) of this AD. For the reporting requirement in this AD, under the provisions of the Paperwork Reduction Act, the Office of Management and Budget (OMB) has approved the information collection requirements and has assigned OMB Control Number 2120-0056. Do the reporting requirement at whichever of the following that occurs later:

(i) Within 10 days after the inspection; or

(ii) Within the next 10 days after March 2, 2009 (the effective date of this AD).

Note 2: The FAA considers this interim action. We will work with Cessna and evaluate the crack reports and all other information. Based on this information, we may initiate additional rulemaking action.

Alternative Methods of Compliance (AMOCs)

(f) The Manager, Wichita Aircraft Certification Office (ACO), FAA, has the authority to approve AMOCs for this AD, if requested using the procedures found in 14 CFR 39.19. Send information to ATTN: Adam Neubauer, Wichita ACO, Aerospace Engineer, 1801 Airport Road, Room 100, Wichita, Kansas 67209; telephone: (316) 946-4156; fax: (316) 946-4107. Before using any approved AMOC on any airplane to which the AMOC applies, notify your appropriate principal inspector (PI) in the FAA Flight Standards District Office (FSDO), or lacking a PI, your local FSDO.

Material Incorporated by Reference

(g) You must use Cessna Service Bulletin MEB08-8, dated December 23, 2008, to do the actions required by this AD, unless the AD specifies otherwise.

(1) The Director of the Federal Register approved the incorporation by reference of this service information under 5 U.S.C. 552(a) and 1 CFR part 51.

(2) For service information identified in this AD, contact Cessna Aircraft Company, P.O. Box 7704, Wichita, Kansas 67277; telephone: (800) 423-7762 or (316) 517-6056; Internet: http://www.cessna.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on February 6, 2009.
Kim Smith,
Manager, Small Airplane Directorate, Aircraft Certification Service.

[FR Doc. E9-3016 Filed 2-17-09; 8:45 am]

BILLING CODE 4910-13-P